DEPARTMENT OF AGRICULTURE

Forest Service

Okanogan-Wenatchee National Forest, Washington; Forest-Wide Site-Specific; Invasive Plant Management Environmental Impact Statement

AGENCY: Forest Service, USDA.

ACTION: Notice of Intent to Prepare an Environmental Impact Statement.

SUMMARY: The USDA Forest Service will prepare an Environmental Impact Statement (EIS) to document and disclose the potential environmental effects of proposed invasive plant treatments. The Proposed Action is to apply a combination of herbicide, mechanical, manual, cultural and biological treatment methods to control invasive plants on approximately 15,246 acres on the Okanogan-Wenatchee National Forest in Washington. The proposed action includes treatment of invasive species on 216 acres within congressionally designated wilderness areas on the Forest. The Proposed Action would also establish criteria for responding to the spread of infestations into currently unoccupied areas.

DATES: Comments concerning the scope of this analysis must be received by September 10, 2009. The draft environmental impact statement is expected January 2010 and the final environmental impact statement is expected summer 2010.

ADDRESSES: Send written comments to Jodi Leingang, Naches Ranger Station, Okanogan-Wenatchee National Forest, 10237 Highway 12, Naches, WA 98942 Comments can also be sent via e-mail to okawen_forestwide_invasives__eis@fs.fed.us or via facsimile to (509) 653-2638, Attention: Jodi Leingang.

Comments received in response to this solicitation, including names and addresses of those who comment, will become part of the public record for this proposed action. Comments submitted anonymously will be accepted and considered; however, anonymous comments will not provide the respondent with standing to participate in subsequent administrative review or judicial review.

FOR FURTHER INFORMATION CONTACT: Jodi Leingang, Naches Ranger Station, 10237 Highway 12, Naches, WA 98942; 509-653-1450.

Individuals who use telecommunication devices for the deaf (TDD) may call the Federal Information Relay Service (FIRS) at 1-800-877-8339 between 8 a.m. and 8 pm, Eastern Time, Monday through Friday.

SUPPLEMENTARY INFORMATION:

Purpose and Need for Action

The Wenatchee National Forest Land and Resource Management Plan (LRMP, 1990) requires that existing populations of invasive species (termed “noxious weeds”) be contained, controlled or eradicated as the budget allows (page IV-89). The Okanogan National Forest Land and Resource Management Plan (LRMP, 1989) requires that noxious weeds be controlled to the extent practical with a priority on treatment of new infestations (LRMP, page 4-45). The Pacific Northwest Region's Invasive Plant Program for Preventing and Managing Invasive Plants Record of Decision (PNW ROD, 2005), an amendment to the Wenatchee and Okanogan LRMPs, directs that invasive plant populations be prioritized for treatment and a long term strategy be developed for restoring/revegetating invasive plant sites (PNW ROD, page 20).

Invasive plants on the Forest are compromising the ability for the Forest Service to manage for healthy native ecosystems. Invasive plants create a host of environmental and other effects, most of which are harmful to native ecosystem processes, including: displacement of native plants; reduction in functionality of habitat and forage for wildlife and livestock; loss of threatened, endangered, and sensitive species; increased soil erosion and reduced water quality; alteration of physical and biological properties of soil, including reduced soil productivity; changes to the intensity and frequency of fires; high cost (dollars spent) of controlling invasive plants; and loss of recreational opportunities.

New and existing invasive plant populations on the Forest require analysis to implement new or more effective and cost-efficient treatments, including the Regional EIS updated list of herbicides. The most recent inventory shows that 15,246 acres are infested on the Forest. There are likely additional infestations that are not yet discovered, and these, as well as known sites, will continue to expand and spread every year without effective treatment. Without action, invasive plant populations will become increasingly difficult and costly to control and will further degrade native ecosystems.

The purpose of this action is to provide a rapid and more comprehensive, up to date approach to control and eradicate invasive plants on the Forest. The purpose of controlling or eradicating weed populations is to maintain or improve the diversity, function and sustainability of native plant communities, and other resources that depend on them. Specifically, there is a need to: (1) contain and reduce the extent of invasive plants at existing inventoried sites, and (2) quickly detect and rapidly respond to new and changing invasive plant populations.

Proposed Action

The Okanogan-Wenatchee National Forest Supervisor proposes to treat currently existing invasive species on 15,246 acres across the Okanogan-Wenatchee National Forest, including approximately 1,712 acres on the Chelan Ranger District, 1,968 acres on the Cle Elum Ranger District, 2,346 acres on the Entiat Ranger District, 799 acres on the Methow Valley Ranger District, 3,299 acres on the Naches Ranger District, 4,399 acres on the Tonasket Ranger District, and 723 acres on the Wenatchee River Ranger District. Infestations that occur on 216 acres within congressionally designated Wilderness areas would also be treated. The proposed invasive species treatments would begin in 2010 and span the next 15 years. Under the proposed action those treatment methods and herbicides analyzed in the Pacific Northwest Region Invasive Plant Program: Preventing and Managing Invasive Plants, Final Environmental Impact Statement (FEIS) (USDA 2005) would be used, along with one additional herbicide. Invasive plants would be treated using one or a combination of manual (e.g. hand-pulling, digging with hand tools, clipping), mechanical (e.g. mowing, weed whacking, road brushing, root tilling, steaming, infrared), cultural (e.g. competitive seeding/planting, mulching, adding soil amendments/fertilizer), biological, and chemical methods (e.g. spot spraying, wicking, and limited broadcast application). Proposed herbicide mixtures would include one or more of the following active ingredients: chlorosulfuron, clopyralid, glyphosate, imazapic, imazapyr, metsulfuron methyl, picloram, sethoxydim, sulfometuron methyl, and triclopyr. In addition to the herbicides analyzed in the 2005 Invasive Plant FEIS, the proposed action would include application of aminopyralid. Herbicide treatments would be part of the initial prescription for currently identified sites on 15,246 acres. On many sites, the use of herbicides would be expected to decline in subseuqent entries with manual, mechanical, biological and cultural methods becoming the common control measure over time. Therefore, within the 15,246 acres identified for chemical treatment; other treatments could also occur including; 450 acres of manual treatment, 350 acres of mechanical treatment, 1,750 acres of cultural treatment, and 3,500 acres of biological treatment. In other cases, although herbicide use would would continue as the preferred treatment method through time, the amount of herbicide applied would greatly diminish as the infestation is brought nearer to eradication. Infested acres would be treated with an initial prescription, and retreated in subsequent years, until control objectives are met. Site-specific treatment prescriptions would be developed based on the ability to eradicate, control, contain, suppress or tolerate an infestation. Selection of treatment methods and prioritization of sites would follow amended LRMP direction, and take into account the biology of the particular invasive species, its proximity to water and other sensitive resources (values at risk), and the size of the infestation.

The Proposed Action would also allow for treatment of infestations that are not currently inventoried through an early detection/rapid response (EDRR) strategy and annual implementation planning. To these ends, this EIS will include analysis associated with the treatment of currently documented infestations (sites) as well as areas where invasive species are not currently present but are most likely to spread and establish over time. The EIS will include analysis of approximately 16,448 additional acres of treatment associated with EDRR. Ongoing inventories would continually locate and confirm infestation locations. Treatment recommendations for presently uninventoried infestations would be similar to that described for known infestations, in that, herbicides would be part of the initial prescription; with manual, mechanical, biological and cultural methods becoming the common control measure over time. Treatment prescriptions for these presently undocumented sites would be strict enough to ensure that adverse effects are minimized to remain within the scope of effects analyzed in this EIS, and still be flexible enough to adapt to changing conditions over time (i.e. adaptive management).

The total number of acres of invasive species treatment that would be approved in this document and decision for known and EDRR is 31,694 acres; 15,246 acres of presently known infestation and 16,448 acres under the early detection rapid response strategy. The number of acres treated in any given year would not exceed this total. However, provided the recent history of funding available to accomplish this work, it is very unlikely that we would treat the total in any given year. Monitoring would evaluate the effectiveness of past treatments and direct adaptive management needs over time.

A connected action of the Proposed Action is the restoration of treatment sites with desirable vegetation to prevent re-infestation. The restoration objectives may be passive (allowing native plants to fill in a site) or active (any combination of seeding, mulching, or planting). Some sites will require active re-vegetation to achieve the desired future condition.

In 2002, the Okanogan-Wenatchee National Forest adopted an invasive weeds prevention strategy which includes best management practices for the prevention of weed spread and introduction. These practices would continue to be an important part of the Forest's invasive species management strategy under the proposed action described above.

This project does not include herbicide application directly to water, use of any pesticides other than herbicides, treatment of aquatic invasive plants (floating and submerged), or treatment of native vegetation.

Possible Alternatives

The No Action alternative will serve as a baseline for comparison of alternatives. Under the No Action alternative, the Okanogan-Wenatchee National Forest would continue to treat invasive plant species as authorized under existing National Environmental Policy Act (NEPA) documents including; current noxious weed, dry forest restoration, and other site-specific projects. Additional action alternatives may be developed to respond to significant issues, if any.

Responsible Official

The responsible official for this project is the Okanogan-Wenatchee National Forest Supervisor Rebecca Lockett Heath.

Nature of the Decision To Be Made

The Okanogan-Wenatchee National Forest Supervisor will decide whether or not invasive species will be treated on the Forest, and if so, what mitigation measures and monitoring requirements will be required for implementation.

Preliminary Issues

Several analysis efforts related to the treatment of invasive species on National Forests in Washington and Oregon (Region 6) have been completed or are currently on-going at this time. Preliminary issues identified during the scoping process associated with these efforts have included: Human health/public and worker exposure to herbicides, effects of herbicide on native and non-target vegetation including threatened, endangered and special status plants, and the effects of herbicide on wildlife including threatened, endangered and special status animals and aquatic organisms, including special status fish.

Scoping Process

This notice of intent initiates the scoping process, which guides the development of the environmental impact statement. To assist the Forest Service in identifying and considering issues and concerns about the proposed action, public comment opportunities will continue to be provided throughout the EIS process. In addition to taking written comments, the Forest Service will hold a series of public meetings across the Forest during the late summer/early fall of 2009 to ensure that those who are interested have every opportunity to provide additional information or comments and to identify any issues or concerns they may have relative to the proposed action.

It is important that reviewers provide their comments at such times and in such a way that they are useful to the Agency's preparation of the EIS. Therefore, comments should be provided prior to the close of the comment period and should clearly articulate the reviewer's concerns and contentions. The submission of timely and specific comments can affect a reviewer's ability to participate in subsequent administrative review or judicial review.

Comments received in response to this solicitation, including names and addresses of those who comment, will be considered part of the public record on this proposed action and will be available for public inspection. Comments submitted anonymously will be accepted and considered; however, respondents who submit anonymous comments will not be granted standing to appeal the subsequent decision under 36 CFR Part 215 or judicial review. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied; the agency will return the submission and notify the requester that the comments may be resubmitted with or without name and address within a specified number of days.

Dated: August 7, 2009.
Stuart Woolley,
Acting Forest Supervisor.

[FR Doc. E9-19451 Filed 8-12-09; 8:45 am]

BILLING CODE 3410-11-P